DEPARTMENT OF THE INTERIOR

National Park Service

Notice of Inventory Completion: University of Missouri-Columbia, Museum of Anthropology, Columbia, MO

AGENCY: National Park Service, Interior.

ACTION: Notice.

Notice is here given in accordance with the Native American Graves Protection and Repatriation Act (NAGPRA), 25 U.S.C. 3003, of the completion of an inventory of human remains and associated funerary objects in the possession of the University of Missouri-Columbia, Museum of Anthropology, Columbia, MO. The human remains were removed from the Utz site in Saline County, MO.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the University of Missouri-Columbia professional staff in consultation with representatives of the Iowa Tribe of Oklahoma and the Otoe-Missouria Tribe of Indians, Oklahoma.

In 1950, human remains representing a minimum of one individual (accession number 23SA0002.121), and in 1973, human remains representing a minimum of two individuals (accession numbers 23SA0002.120 and 23SA0002.249) were removed from site 23SA2 (Utz site), Saline County, MO, during excavations conducted by University of Missouri-Columbia professional staff, supervised field school students, and volunteers of the Missouri Archaeological Society. No known individuals were identified. The three associated funerary objects are two pieces of debitage and one soil sample.

Based on oral tradition, types of associated funerary objects from other burials at the same site, and historical documents, this individual has been determined to be Native American. Based on radiocarbon dating, presence of trade objects, and historical documents, the Utz site has been identified as a village occupation estimated to date to approximately A.D. 1460-1712. Oral tradition, archeological evidence, and historical documents indicate that the Utz site was a village of the Missouria Tribe, and therefore, the burials are reasonably believed to be culturally affiliated with the Otoe-Missouria Tribe of Indians, Oklahoma.

Officials of the University of Missouri-Columbia have determined that, pursuant to 25 U.S.C. 3001 (9-10), the human remains described above represent the physical remains of three individuals of Native American ancestry. Officials of the University of Missouri-Columbia also have determined that, pursuant to 25 U.S.C. 3001 (3)(A), the three objects described above are reasonably believed to have been placed with or near individual human remains at the time of death or later as part of the death rite or ceremony. Lastly, officials of the University of Missouri-Columbia have determined that, pursuant to 25 U.S.C. 3001 (2), there is a relationship of shared group identity that can be reasonably traced between the Native American human remains and associated funerary objects and the Otoe-Missouria Tribe of Indians, Oklahoma.

Additional human remains and associated funerary objects from the Utz site (23SA0002) were described in three Notices of Inventory Completion published in the Federal Register on July 18, 2000 (FR doc. 00-18137, page 44545), April 3, 2001 (FR doc. 01-8175, pages 17732-17733), and March 7, 2003 (FR doc. 03-5515, page 11142).

Representatives of any other Indian tribe that believes itself to be culturally affiliated with the human remains and associated funerary objects should contact Dr. Michael O'Brien, Director, Museum of Anthropology, 317 Lowry Hall, University of Missouri-Columbia, Columbia, MO 65211, telephone (573) 882-4421, before March 24, 2005. Repatriation of the human remains and associated funerary objects to the Otoe-Missouria Tribe of Indians, Oklahoma may proceed after that date if no additional claimants come forward.

University of Missouri-Columbia, Museum of Anthropology is responsible for notifying the Iowa Tribe of Oklahoma and Otoe-Missouria Tribe of Indians, Oklahoma that this notice has been published.

Dated: January 14, 2005
Sherry Hutt,
Manager, National NAGPRA Program.

[FR Doc. 05-3323 Filed 2-18-05; 8:45 am]

BILLING CODE 4312-50-S